DEPARTMENT OF ENERGY

Federal Energy Regulatory Commission

[Project Nos. 2572-133, 2458-247]

Great Lakes Hydro America, LLC; Notice of Environmental Site Review

The Federal Energy Regulatory Commission and Great Lakes Hydro America, LLC will conduct, in conjunction with the Initial Study Report meeting(s), an environmental site review of the Ripogenus and Penobscot Mills Projects. The projects are located on the West Branch of the Penobscot River and Millinocket Stream, in Piscataquis and Penobscot Counties, Maine. The site review will focus on Ripogenus Dam and McKay Station, Millinocket Lake Pump Station, and Stone Dam, as well as the West Branch Penobscot River in those areas. As time permits, other areas that may toured include the Holbrook Side Channel; boat launches, including the Ambajejus Boat Launch; transmission line corridors; Millinocket Gate House; and Millinocket battery bank.

Date and Time: Friday, May 5, 2023; 8:00 a.m.-about 12:00 p.m. (EST).

Location: Meet at the Millinocket Office, 1024 Central St., Millinocket, Maine 04462.

The site review is open to the public and resource agencies. All participants interested in attending the site review should provide their own transportation.

Questions about the site review should be directed to Allan Creamer at (202) 502-8365, or allan.creamer@ferc.gov. If you plan to attend, please notify Randy Dorman at (207) 775-5605, or randy.dorman@brookfieldrenewable.com, as well as Allan Creamer, no later than April 28, 2023.

Dated: April 17, 2023.
Kimberly D. Bose,
Secretary.

[FR Doc. 2023-08513 Filed 4-21-23; 8:45 am]

BILLING CODE 6717-01-P